DEPARTMENT OF ENERGY

Federal Energy Regulatory Commission

[Docket No. RP96-389-077]

Columbia Gulf Transmission Company; Notice of Compliance Filing

March 14, 2003.

Take notice that on March 12, 2003, Columbia Gulf Transmission Company (Columbia Gulf) tendered for filing as part of its FERC Gas Tariff, Second Revised Volume No. 1, Fourth Revised Sheet No. 20C; Fourth Revised Sheet No. 20E; Fourth Revised Sheet No. 20F; and Fourth Revised Sheet No. 20G, with an effective date of March 1, 2003.

Columbia Gulf states that it is filing these tariff sheets to comply with the Commission's orders approving negotiated rate agreements in Docket Nos. RP96-389-052, 055, 060 and 067. Columbia Gulf states that the instant filing contains revised tariff sheets reflecting the rate effective on March 1, 2003.

Columbia Gulf states that it has served copies of the filing on all parties identified on the official service list in Docket No. RP96-389.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: March 24, 2003.

Magalie R. Salas,
Secretary.

[FR Doc. 03-6727 Filed 3-19-03; 8:45 am]

BILLING CODE 6717-01-P